DEPARTMENT OF HEALTH AND HUMAN SERVICES

Centers for Medicare & Medicaid Services

[Document Identifier: CMS-855(O), CMS-855(S) and CMS-855(A, B, I, R)]

Agency Information Collection Activities: Submission for OMB Review; Comment Request

AGENCY: Centers for Medicare & Medicaid Services, HHS

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Medicare Enrollment Application for Eligible Ordering and Referring Physicians and Non-physician Practices Use: CMS is adding a new CMS-855 Medicare Enrollment Application (CMS 855O—Medicare Enrollment Application for Ordering and Referring Physicians only). CMS has found that many providers and suppliers who are not enrolled in Medicare are ordering and referring physicians for Medicare enrolled providers and suppliers. The ordering and referring data field on the CMS 1500 claims submission form requires an ordering or referring physician to have a Medicare identification number. Without an ordering or referring physician, specific types of claims submitted by Medicare approved providers and suppliers are rejected by Medicare Administrative Contractors (MAC) as required by Medicare regulation. Therefore, if an ordering or referring physician does not participate in the Medicare program, but orders or refers his/her patients to a Medicare provider or supplier, the claim submitted by the Medicare provider or supplier for the given ordered or referred service is automatically rejected by the MAC. The CMS 855O allows a physician to receive a Medicare identification number (without being approved for billing privileges) for the sole purpose of ordering and referring beneficiaries to Medicare approved providers and suppliers. This new Medicare application form allows physicians who do not provide services to Medicare beneficiaries to be given a Medicare identification number without having to supply all the data required for the submission of Medicare claims. It also allows the Medicare program to identify ordering and referring physicians without having to validate the amount of data necessary to determine claims payment eligibility (such as banking information), while continuing to identify the physician's credentials as valid for ordering and referring purposes. Form Number: CMS-855(O) (OMB#: 0938-NEW0685); Frequency: Yearly; Affected Public: Private Sector; Business or other for-profit and not-for-profit institutions; Number of Respondents: 48,000; Total Annual Responses: 48,000; Total Annual Hours: 46,000. (For policy questions regarding this collection contact Kim McPhillips at 410-786-5374. For all other issues call 410-786-1326.)

2. Type of Information Collection Request: Revision of a currently approved collection; Title of Information Collection: Medicare Durable Medical Equipment Supplier Enrollment Application; Use: The primary function of the CMS 855S DMEPOS supplier enrollment application is to gather information from a supplier that tells us who it is, whether it meets certain qualifications to be a health care supplier, where it renders its services or supplies, the identity of the owners of the enrolling entity, and information necessary to establish the correct claims payment. The goal of evaluating and revising the CMS 855S DMEPOS supplier enrollment application is to simplify and clarify the information collection without jeopardizing our need to collect specific information. Additionally, periodic revisions are necessary to incorporate new regulatory requirements.

The goal of this revision of the CMS 855S is to incorporate new regulatory provisions found at 42 CFR 424.57(c) (1 through 30) and 42 CFR 424.58. These revisions will allow CMS to be in compliance with the above stated regulations implementing new quality standards for DMEPOS suppliers, including accreditation requirements. This revision will also incorporate new supplier standard regulations found in the final regulation that published on August 27, 2010 (75 FR 52629-52649). Form Number: CMS-855(S) (OMB#: 0938-1056); Frequency: Yearly; Affected Public: Private Sector; Business or other for-profit and not-for-profit institutions; Number of Respondents: 140,290; Total Annual Responses: 140,290; Total Annual Hours: 331,619. (For policy questions regarding this collection contact Kim McPhillips at 410-786-5374. For all other issues call 410-786-1326.)

3. Type of Information Collection Request: Revision of a currently approved collection; Title of Information Collection: Medicare Enrollment Application; Use: The primary function of the CMS-855 Medicare enrollment application is to gather information from a provider or supplier that tells us who it is, whether it meets certain qualifications to be a health care provider or supplier, where it practices or renders its services, the identity of the owners of the enrolling entity, and other information necessary to establish correct claims payments. The goal of this submission is to address the following issues. The CMS-855A enrollment form currently captures ownership/managerial information on providers. The data required under sections 6401 and 6001, however, is more specific than that currently obtained on the CMS-855A. CMS will therefore create four attachments to the CMS-855A—two for SNFs and the other two for physician-owned hospitals—to secure this information. In addition to the application changes triggered by ACA, CMS is making other revisions to the forms as well.

This information collection request has been revised since the 60-day Federal Register notice published on March 22, 2011 (76 FR 13415). The group/clinic and individual burden has decreased due to the removal of a previously proposed supplier attachment. However, the overall burden hour estimate has increased slightly due to additional role-specific ownership and managerial control data collection for institutional providers. Form Number: CMS-855(A, B, I, R) (OMB#: 0938-0685); Frequency: Yearly; Affected Public: Private Sector; Business or other for-profit and not-for-profit institutions; Number of Respondents: 440,450; Total Annual Responses: 440,450; Total Annual Hours: 856,395. (For policy questions regarding this collection contact Kim McPhillips at 410-786-5374. For all other issues call 410-786-1326.)

To be assured consideration, comments and recommendations for the proposed information collections must be received by the OMB desk officer at the address below, no later than 5 p.m. on June 20, 2011. OMB, Office of Information and Regulatory Affairs, Attention: CMS Desk Officer, Fax Number: (202) 395-6974, E-mail: OIRA_submission@omb.eop.gov.

Dated: May 17, 2011.
Martique Jones,
Director, Regulations Development Group, Division-B, Office of Strategic Operations and Regulatory Affairs.

[FR Doc. 2011-12473 Filed 5-19-11; 8:45 am]

BILLING CODE 4120-01-P